INTERNATIONAL TRADE COMMISSION

[Investigation No. 337-TA-1434]

Certain Composite Intermediate Bulk Containers; Notice of Commission Determination Not To Review Three Initial Determinations Terminating the Investigation With Respect to the Remaining Respondents Based on Consent Orders; Request for Written Submissions on Remedy, the Public Interest, and Bonding

AGENCY: U.S. International Trade Commission.

ACTION: Notice.

SUMMARY: Notice is hereby given that the U.S. International Trade Commission has determined not to review three initial determinations (“ID”) (Order Nos. 20, 21, 22) issued by the presiding Chief Administrative Law Judge (“Chief ALJ”) granting three separate unopposed motions to terminate, respectively, respondents Shanghai Sakura Plastic Products Co., Ltd. (d/b/a Shanghai Yinghua Plastic Products Co., Ltd.) of Shanghai, China (“Sakura”); Shandong Jinshan Jieyuan Container Co., Ltd. of Zhengjiang City, China (“Jinshan”); and Zibo Jielin Plastic Pipe Manufacture Co. Ltd. of Zibo City, China (“Jielin”) from the investigation due to settlement agreements, consent order stipulations, and consent orders.

FOR FURTHER INFORMATION CONTACT: Carl P. Bretscher, Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On January 27, 2025, the Commission instituted this investigation based on a complaint filed by Schütz Container Systems, Inc. of North Branch, New Jersey and Protechna S.A. of Fribourg, Switzerland (collectively, “Complainants”). 90 FR 8222-23 (Jan. 27, 2025). The complaint, as supplemented, alleged violations of section 337 of the Tariff Act of 1930, as amended, 19 U.S.C. 1337 (“section 337”), by reason of the infringement of certain claims of U.S. Patent Nos. 9,718,581; 8,708,150; 8,919,562; 8,567,626; 9,004,310; and 8,276,299. Id. The Commission's notice of investigation named the following respondents: Jinshan; Sakura; Jielin; and Hebei Shijiheng Plastics, Co., Ltd., of Zhongjie Huanghua City, China (“Hebei Shijiheng”). Id. The Office of Unfair Import Investigations (“OUII”) was also named as a party in the investigation. Id.

On April 22, 2025, the Commission terminated the investigation as to certain patent claims based on withdrawal of the complaint. See Order No. 9 (Apr. 2, 2025), unreviewed by Notice (Apr. 22, 2025). In addition, the Commission amended the complaint and notice of investigation to change the address of Hebei Shijiheng to the address where Hebei Shijiheng had been served with the complaint and notice of investigation. Order No. 10 (May 9, 2025), unreviewed by Notice (May 28, 2025).

On July 7, 2025, the Commission amended the complaint and notice of investigation to assert claims 1-3 and 5 of the '150 patent against respondent Jinshan and claims 1-3 of the '150 patent against respondent Sakura. Order No. 12 (June 13, 2025), unreviewed by Comm'n Notice (July 7, 2025). The Commission found that good cause exists for the amendments because “Complainants learned of additional infringing product models manufactured by Jinshan and Sakura after filing of the complaint.” Order No. 12 at 3.

On July 7, 2025, the Commission found respondent Hebei Shijiheng in default for failure to respond to the complaint and notice of investigation or an order to show cause (Order No. 11) issued on June 2, 2025. Order No. 13 (June 17, 2025), unreviewed by Comm'n Notice (July 7, 2025).

On September 11, 2025, Complainants filed a declaration pursuant to section 337(g)(1) (19 U.S.C. 1337(g)(1)) and Commission Rule 210.16(c) (19 CFR 210.16(c)) seeking immediate entry of relief against defaulting respondent Hebei Shijiheng. Specifically, Complainants request a limited exclusion order prohibiting entry into the United States of Hebei Shijiheng's infringing articles. Complainants also request that the Commission set a bond of one hundred percent (100%) of the entered value of the infringing articles during the period of Presidential review.

On November 18, 2025, Complainants and respondents Sakura, Jinshan, and Jielin filed respective joint unopposed motions to terminate the investigation with respect to those respondents based on a settlement agreement, consent order, and consent order stipulation. On November 28, 2025, OUII filed responses in support of granting the three joint motions. No other party filed a response to any of the three motions.

On December 8, 2025, the presiding Chief ALJ issued the three subject IDs (Order Nos. 20, 21, and 22) granting the unopposed motions to terminate Sakura, Jinshan, and Jielin, respectively, from the investigation. See Order No. 20 (Dec. 8, 2025) (terminating Sakura); Order No. 21 (Dec. 8, 2025) (terminating Jinshan); Order No. 22 (Dec. 8, 2025) (terminating Jielin). The IDs each find, respectively, that the proposed consent order stipulations and consent orders conform to Commission Rule 210.21(c)(3), (4) (19 CFR 210.21(c)(3), (4)). The IDs also find, respectively, that the statutory public interest factors do not weigh against entry of the proposed consent orders.

No party filed a petition for review of any of the three subject IDs.

The Commission has determined not to review any of the three subject IDs (Order Nos. 20, 21, 22). Accordingly, consent orders are issued to respondents Sakura, Jinshan, and Jielin, and this investigation is terminated with respect to remaining active respondents. As noted above, respondent Hebei Shijiheng was previously found in default.

In connection with the final disposition of this investigation as to defaulting respondent Hebei Shijiheng, the statute authorizes issuance of: (1) an exclusion order that could result in the exclusion of the subject articles from entry into the United States, and/or (2) a cease and desist order that could result in the respondent being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (December 1994).

The statute requires the Commission to consider the effects of any remedy upon the public interest. The public interest factors the Commission will consider include the effect that an exclusion order and/or cease-and-desist order would have on: (1) the public health and welfare; (2) competitive conditions in the U.S. economy; (3) U.S. production of articles that are like or directly competitive with those that are subject to investigation; and (4) U.S. consumers. The Commission is therefore interested in receiving written submissions that address the aforementioned public interest factors in the context of this investigation.

If the Commission orders some form of remedy, the U.S. Trade Representative, as delegated by the President, has 60 days to approve, disapprove, or take no action on the Commission's action. See Presidential Memorandum of July 21, 2005. 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to this investigation, interested government agencies, and any other interested parties are requested to file written submissions on the issues of remedy, the public interest, and bonding. In their initial submission, Complainants are also requested to identify the remedy sought and Complainants and OUII are requested to submit proposed remedial orders for the Commission's consideration. Complainants are further requested to state the dates that the Asserted Patents expire, to provide the HTSUS subheadings under which the accused products are imported, and to supply the identification information for all known importers of the products at issue in this investigation. The initial written submissions and proposed remedial orders must be filed no later than close of business on January 9, 2026. Reply submissions must be filed no later than the close of business on January 16, 2026. No further submissions on any of these issues will be permitted unless otherwise ordered by the Commission.

Persons filing written submissions must file the original document electronically on or before the deadlines stated above pursuant to 19 CFR 210.4(f). Submissions should refer to the investigation number (“Inv. No. 337-TA-1434”) in a prominent place on the cover page and/or first page. (See Handbook for Electronic Filing Procedures, https://www.usitc.gov/documents/handbook_on_filing_procedures.pdf). Persons with questions regarding filing should contact the Secretary (202-205-2000).

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission's vote for this determination took place on December 22, 2025.

The authority for the Commission's determination is contained in section 337 of the Tariff Act of 1930, as amended (19 U.S.C. 1337), and in Part 210 of the Commission's Rules of Practice and Procedure (19 CFR part 210).

By order of the Commission.
Issued: December 22, 2025
Lisa Barton,
Secretary to the Commission.

[FR Doc. 2025-24000 Filed 12-29-25; 8:45 am]

BILLING CODE 7020-02-P